Title 3—

The President

Proclamation 10785 of July 19, 2024

Captive Nations Week, 2024

By the President of the United States of America

A Proclamation

During Captive Nations Week, we remember all those around the world living under oppression and fighting for their liberty. They remind us that freedom is never free and that even the most brutal regime cannot erase the human yearning for dignity and self-determination.

As we marked the 80th anniversary of D-Day this year, we were reminded of the dark forces that the United States and its allies fought against in World War II, like aggression, greed, and the desire to dominate and change borders by force. Still today, the struggle between dictatorship and freedom continues. We see it in various places around the world, where rulers govern with contempt for basic human rights, the rule of law, and democratic governance. In countries like Belarus, Cuba, the Democratic People's Republic of Korea, Iran, Nicaragua, the People's Republic of China, Syria, Russia, Venezuela, and more, millions live without basic freedoms.

In Europe, we see another stark example. Russia is waging an illegal, unjustifiable, and unprovoked war of aggression against Ukraine. For 2 years, the Ukrainian people have fought with extraordinary courage and bravery. The United States is standing with them, alongside a coalition of more than 50 countries, and we will not walk away or bow down. The autocrats of the world are watching closely to see what happens in Ukraine and if we will let this illegal aggression go unchecked. We cannot let that happen. That is why I signed a national security package into law that provided $61 billion to the people of Ukraine to meet their urgent security and defense needs, ensuring they have the support they need to defend their country.

At the same time, we support the equal and inalienable rights of all people everywhere. That is why my Administration has been working with the Congress to provide up to $11.8 billion through the end of Fiscal Year 2025 to strengthen democracies across the globe. This year, at the Third Summit for Democracy, the United States and countries around the world came together to strengthen democratic resilience, respect for human rights, and good governance globally. But there is still so much we must do. We must continue working to ensure that women and girls enjoy equal rights and equal participation. We must ensure that Indigenous groups; racial, ethnic, and religious minorities; and people with disabilities do not have their potential stifled by systemic discrimination. We must remember wrongfully detained Americans around the world. And we must ensure that LGBTQI+ people are not targeted with violence because of who they are. When human rights are not upheld, the effects are felt everywhere. They are essential to the advancement of human progress that brings us together.

The challenges of our time remind us that we must continue to secure our freedom and democracy here at home. I signed an Executive Order to promote access to voter registration and election information so every American has an opportunity to exercise their right to vote. And I signed the Electoral Count Reform Act to ensure that our elections answer to the will of the people. I continue to call on the Congress to pass the Freedom to Vote Act and the John Lewis Voting Rights Advancement Act, which would further protect the sacred right to vote.

As Americans, we represent something special to the world. We are the only Nation on Earth founded on the idea that all men and women are created equal. Both at home and abroad, our actions every day will ensure that our democracy endures, the soul of our Nation endures, and the free world remains free. This week, we recommit to ensuring that democracy is preserved, is defended, and prevails.

The Congress, by joint resolution approved July 17, 1959 (73 Stat. 212), has authorized and requested the President to issue a proclamation designating the third week of July of each year as “Captive Nations Week.”

NOW, THEREFORE, I, JOSEPH R. BIDEN JR., President of the United States of America, do hereby proclaim July 21 through July 27, 2024, as Captive Nations Week. I call upon all Americans to reaffirm our commitment to championing those around the world who are working, often at great personal risk, to secure liberty and justice for all.

IN WITNESS WHEREOF, I have hereunto set my hand this nineteenth day of July, in the year of our Lord two thousand twenty-four, and of the Independence of the United States of America the two hundred and forty-ninth.

[FR Doc. 2024-16399

Filed 7-23-24; 8:45 am]

Billing code 3395-F4-P